DEPARTMENT OF AGRICULTURE

Forest Service

Southwest Oregon Province Interagency Executive Committee (PIEC) Advisory Committee

AGENCY: Forest Service, USDA.

ACTION: Notice of meeting.

SUMMARY: The Southwest Oregon PIEC Advisory Committee will meet on February 16, 2000, at the Jot's Resort, 94360 Wedderburn Loop Road, Gold Beach, Oregon. The meeting will begin at 9:00 a.m. and continue until 5:00 p.m. Agenda items to be covered include: (1) Overview of PAC recharter; (2) Implementation Monitoring update; (3) Survey and Manage EIS; and (4) Public Comment.

FOR FURTHER INFORMATION CONTACT: Direct questions regarding this meeting to Roger Evenson, Province Advisory Committee Coordinator, USDA, Forest Service, Umpqua National Forest, 2900 NW Stewart Parkway, Roseburg, Oregon 97470, phone (541) 957-3344.

Dated: January 24, 2000.
Roger J. Evenson,
Acting Designated Federal Official.

[FR Doc. 00-2068 Filed 1-31-00; 8:45 am]

BILLING CODE 3410-01-M